DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of September 2000.

In order for an affirmative determination to be made and a certification of eligibility to apply for worker adjustment assistance to be issued, each of the group eligibility requirements of section 222 of the Act must be met.

(1) That a significant number or proportion of the workers in the workers' firm, or an appropriate subdivision, thereof, have become totally or partially separated,

(2) That sales or production, or both, of the firm or sub-division have decreased absolutely; and

(3) That increases of imports of articles like or directly competitive with articles produced by the firm or appropriate subdivision have contributed importantly to the separations, or threat thereof, and to the absolute decline sales or production.

Negative Determinations for Worker Adjustment Assistance

In each of the following cases the investigation revealed that criterion (3) has not been met. A survey of customers indicated that increased imports did not contribute importantly to worker separations at the firm.

TA-W-37,903; Tini Industries, Inc., New York, NY

TA-W-37,972; ABC-NACO, Inc., Superior, WI

TA-W-37,983; Penn Machine Co., Johnstown, PA

In the following cases, the investigation revealed that the criteria for eligibility have not been met for the reasons specified.

TA-W-38,086; Hennessee Apparel, Inc., Decatur, TN

TA-W-38,072; JN Oil and Gas, Inc., Billings, MT

TA-W-38,041; Harris Interactive, Inc., Vestal, NY

TA-W-38,062; Grant Geophysical Corp., Midland, TX

The workers firm does not produce an article as required for certification under Section 222 of the Trade Act of 1974.

TA-W-38,029; Trus Joist, A Weyerhaeuser Co., Junction City, OR

TA-W-37,981; Adirondack Knitting Mills, Inc., Amsterdam, NY

TA-W-37,977; Academy Broadway Corp., Sleeping Bags Div., Pine Knot, KY

TA-W-37,017; International Paper Co., Flexible Packaging Div., Monticello, AR

TA-W-37,946; Heritage Toys and Collectables, Dover Foxcroft, ME

TA-W-38,037; AES Interconnects, Aircraft Specialities, San Benito, TX

TA-W-37,988; Tyco International, Tyco Electronics, Sanford, ME

Increased imports did not contribute importantly to worker separations at the firm.

TA-W-37,969; The Arnold Palmer Golf Co., Pocahontas, AR

The investigation revealed that criteria (1) has not been met. A significant number or proportion of the workers did not become totally or partially separated from employment as required for certification.

Affirmative Determinations for Worker Adjustment Assistance

The following certifications have been issued; the date following the company name and location of each determination references the impact date for all workers of such determination.

TA-W-37,844; J and L Specialty Steel, Inc., Detroit, MI: January 16, 2000.

TA-W-38,055; Natalie Knitting Mills, Chilhowie, VA: August 25, 1999.

TA-W-37,935; 2158, Inc., Slatington, PA: July 20, 1999.

TA-W-37,993; Circuit Systems of Tennessee, LP, Greeneville, TN: August 10, 1999.

TA-W-38,039; Tru Stitch Footwear, Malone, NY: August 16, 1999.

TA-W-37,939; Forcenergy, Inc., Miami, FL: July 20, 1999.

TA-W-37,752; Hamilton Sunstrand, Denver, CO: May 30, 1999.

TA-W-37,878; A & B; Sebago, Inc., Gorham, ME: Westbrook, ME and Bridgton, ME: June 30, 1999.

TA-W-37,915; ASAP Sewing, a/k/a Island Textile, Andrews, SC: July 12, 1999.

TA-W-37,958; HPH Apparel Manufacturing Co., Piney Flats, TN: July 27, 1999.

TA-W-37,945; VF Workwear, Inc., Red Kap Industries, Dickson, TN: July 20, 1999.

TA-W-37,567; Niemand Industries, Container Div., Marion, AL: March 24, 1999.

TA-W-38,014; Bay Club Sportswear, Inc., Copiague, NY: August 15, 1999.

TA-W-37,916; Alloy Machining Operation, Miamisburg, OH, A; Digition Dayton, Dayton, OH, B; Digitron Franklin, Franklin, OH, C; Digitron Kettering, Kettering, OH, D; Digitron-CMI, Miamisburg, OH: July 12, 1999.

TA-W-37,959; Melvin Quilting, Rocky Mount, NC: July 18, 1999.

TA-W-38,020; A.O. Smith Electrical Products Co., Gordonsville, TN: August 10, 1999.

TA-W-38,048 & A; PL Industries, a/k/a PL Garment Finishers, McRae, GA and PL Tech Center, McRae, GA: August 21, 1999.

TA-W-37,867; WP Industries, Inc., South Gate, CA: June 20, 1999.

TA-W-37,932; Ribco Mfg., Inc., Providence, RI: July 24, 1999.

TA-W-37,870; Standard Ceramics, Inc., Niagara Falls, NY: June 28, 1999.

TA-W-37,788; Azteca Production Int'l, Finishing/Packing Div., Aztec Finishing, Inc., Commerce, CA: June 1, 1999.

TA-W-37,724; Volex, Inc., Power Cord Div., Clinton, AR: May 12, 1999.

TA-W-37,847; Rickett Benckiser, Consumer Products Div., Rockwood, MI: June 21, 1999.

Also, pursuant to Title V of the North American Free Trade Agreement Implementation Act (Pub. L. 103-182) concerning transitional adjustment assistance hereinafter called (NAFTA-TAA) and in accordance with section 250(a), Subchaper D, Chapter 2, Title II, of the Trade Act as amended, the Department of Labor presents summaries of determinations regarding eligibility to apply for NAFTA-TAA issued during the month of September, 2000.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04006; Chipman-Union, Inc., Belmont, NC

NAFTA-TAA-04023; Flexfab Horizons International, Inc., Flexfab/Moxness, L.L.C., Racine, WI

NAFTA-TAA-04067; ABC-NACO, Inc., Superior, WI

NAFTA-TAA-04115; International Paper Co., Flexible Packaging Div., Monticello, AR

NAFTA-TAA-04022; Pharr Yarns, Inc., McAdenville, NC

NAFTA-TAA-04089; Tyco International, Tyco Electronics, Sanford, ME

NAFTA-TAA-04095; Trus Joist, A Weyerhaeuser Co., Junction City, OR

NAFTA-TAA-04062; Penn Machine Co., Johnstown, PA

NAFTA-TAA-04031 & A; Occidental Chemical Corp., Buffalo Avenue-Niagara Falls Plant, Niagara Falls, New York and Grand Island Technology Center, Grand Island, NY

The investigation revealed that the criteria for eligibility have not been met for the reasons specified

NAFTA-TAA-4112; Harris Interactive, Inc., Vestal, NY

NAFTA-TAA-04104; Hennessee Apparel, Inc., Decatur, TN

The investigation revealed that workers of the subject firm did not produce an article within the meaning of section 250(a) of the Trade Act, as amended.

Affirmative Determinations NAFTA-TAA

NAFTA-TAA-04019; Reckitt Benckiser, Inc., Consumer Products Div., Rockwood, MI: June 21, 1999.

NAFTA-TAA-04039; ABEK, LLC, Bristol, CT: July 13, 1999.

NAFTA-TAA-03898; Volex, Inc., Power Cord Div., Clinton, AR: May 1, 1999.

NAFTA-TAA-04107; American Bag Corp., Stearns, KY: August 23, 1999.

NAFTA-TAA-04033; Diversified Enterprises, d/b/a Habitat, Inc., Montrose, CO: July 20, 1999.

NAFTA-TAA-04094; A.O. Smith Electrical Products Co., Gordonsville, TN: August 2, 1999.

NAFTA-TAA-04140; Ultima Trim, Inc., Los Indios, TX: September 1, 1999.

NAFTA-TAA-4083; Canon Business Machines, Inc., Costa Mesa, CA: August 7, 1999.

NAFTA-TAA-04038; Dana Engine Controls, Brandford, CT: July 20, 1999.

NAFTA-TAA-04105; Lucchese, Inc., El Paso, TX: August 20, 1999.

NAFTA-TAA-04097; Trinity Industries, Inc., McConway and Torley Group, Asheville, NC: August 14, 1999.

I hereby certify that the aforementioned determinations were issued during the month of September 2000. Copies of these determinations are available for inspection in Room C-5311, U.S. Department of Labor, 200 Constitution Avenue, N.W., Washington, DC 20210 during normal business hours or will be mailed to persons who write to the above address.

Dated: October 5, 2000.
Curtis Kooser,
Acting Director, Division of Trade Adjustment Assistance.

[FR Doc. 00-26157 Filed 10-11-00; 8:45 am]

BILLING CODE 4510-30-M